DEPARTMENT OF HOMELAND SECURITY

U.S. Customs and Border Protection

DEPARTMENT OF THE TREASURY

19 CFR Part 4

Vessels in Foreign and Domestic Trades

CFR Correction

In Title 19 of the Code of Federal Regulations, parts 0 to 140, revised as of April 1, 2015, on page 67, in § 4.88, in paragraph (a), remove the words “with a registry which” and add in their place “with a registry endorsement which”.

[FR Doc. 2016-07553 Filed 3-31-16; 8:45 am]

BILLING CODE 1505-01-D